DEPARTMENT OF DEFENSE

Department of the Navy

Notice of Record of Decision for Southern California Range Complex

AGENCY: Department of the Navy, DoD.

ACTION: Notice.

SUMMARY: The Department of the Navy (DON), after carefully weighing the operational, and environmental consequences of the proposed action, announces its decision to support and conduct current, emerging, and future military readiness activities in the Southern California (SOCAL) Range Complex, to include San Clemente Island (SCI), as necessary to achieve and sustain Fleet readiness, including Navy training; Department of Defense (DoD) or other federal agency research, development, test, and evaluation (RDT&E) activities; and investment in range resources and range infrastructure, all in furtherance of the Navy's statutory obligations under Title 10 of the United States Code governing the roles and responsibilities of the Navy. In its decision, the Navy considered applicable executive orders, including an analysis of the environmental effects of its actions outside the United States or its territories under the provisions of Executive Order (EO) 12114, Environmental Effects Abroad of Major Federal Actions, and the requirements of EO 12898, Federal Actions to Address Environmental Justice in Minority Populations and Low Income Populations.

The proposed action will be accomplished as set out in Alternative 2, described in the Final Environmental Impact Statement/Overseas Environmental Impact Statement (EIS/OEIS) as the preferred alternative. Implementation of the preferred alternative could begin immediately. Because of the Navy's Title 10 requirements to organize, train, equip, and maintain combat-ready forces, ongoing training and RDT&E activities within the SOCAL Range Complex will continue at current levels in the event that the preferred alternative is not implemented.

SUPPLEMENTARY INFORMATION: The Record of Decision (ROD) has been distributed to all those individuals who requested a copy of the Final EIS/OEIS and agencies and organizations that received a copy of the Final EIS/OEIS. The full text of the Navy's ROD is available for public viewing on the project Web site at http://www.socalrangecomplexeis.com, along with copies of the Final EIS/OEIS and supporting documents. Single copies of the ROD will be made available upon request by contacting Mr. Kent Randall, Naval Facilities Engineering Command Southwest, Code OPME, 2730 McKean Street, Building 291, San Diego, CA 92136-5198, Telephone: 619-556-2168.

Dated: January 27, 2009.
A. M. Vallandingham,
Lieutenant Commander, Judge Advocate General's Corps, U.S. Navy, Federal Register Liaison Officer.

[FR Doc. E9-2054 Filed 1-29-09; 8:45 am]

BILLING CODE 3810-FF-P